DEPARTMENT OF TRANSPORTATION

Federal Aviation Administration

14 CFR Part 39

[Docket No. FAA-2007-28921; Directorate Identifier 2007-NM-091-AD; Amendment 39-15371; AD 2008-03-20]

RIN 2120-AA64

Airworthiness Directives; Boeing Model 737-300, -400, and -500 Series Airplanes

AGENCY: Federal Aviation Administration (FAA), Department of Transportation (DOT).

ACTION: Final rule.

SUMMARY: The FAA is adopting a new airworthiness directive (AD) for certain Boeing Model 737-300, -400, and -500 series airplanes. This AD requires, among other actions, modifying the door-mounted escape system of the forward right side door slide compartment. This AD results from reports indicating that the forward right escape slide inflated 90 degrees out of alignment after deployment from the forward right side slide compartment. We are issuing this AD to prevent the escape slide from being unusable during an emergency evacuation and consequent injury to passengers or crewmembers.

DATES: This AD becomes effective March 17, 2008.

The Director of the Federal Register approved the incorporation by reference of a certain publication listed in the AD as of March 17, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Robert Hettman, Aerospace Engineer, Cabin Safety & Environmental Systems Branch, ANM-150S, FAA, Seattle Aircraft Certification Office, 1601 Lind Avenue, SW., Renton, Washington 98057-3356; telephone (425) 917-6457; fax (425) 917-6590.

SUPPLEMENTARY INFORMATION:

Discussion

The FAA issued a notice of proposed rulemaking (NPRM) to amend 14 CFR part 39 to include an AD that would apply to certain Boeing Model 737-300, -400, and -500 series airplanes. That NPRM was published in the Federal Register on August 16, 2007 (72 FR 45972). That NPRM proposed to require, among other actions, modifying the door-mounted escape system of the forward right side door slide compartment.

Comments

We provided the public the opportunity to participate in the development of this AD. We have considered the comments received.

Support for NPRM

Boeing and the Air Transport Association (ATA), on behalf of its member Continental, support the NPRM as proposed.

Request To Allow Replacement of Entire Compartment Assembly

The ATA requests that operators be allowed to replace the entire compartment assembly rather than modifying it in accordance with Boeing Special Attention Service Bulletin 737-25-1567, dated March 21, 2007 (referred to as the appropriate source of service information in the AD for accomplishing the required modification). The ATA has concerns about the availability of the slide compartment parts from Boeing.

We partially agree with the ATA. We agree that replacing the entire compartment assembly may be an alternative method of compliance (AMOC) to the modification requirements of this AD. However, we do not have service information which describes such a replacement. We consider delaying issuance of this AD until Boeing revises Boeing Special Attention Service Bulletin 737-25-1567 or develops other service information to be inappropriate, since we have determined that an unsafe condition exists and that modification of the door-mounted escape system must be done to ensure continued safety. However, under the provision of paragraph (h) of this AD, we might consider requests for approval of an AMOC if sufficient data are submitted to substantiate that such a design change would provide an acceptable level of safety.

In consideration of the ATA's concern about parts availability, we have confirmed with Boeing that it can provide the material listed in Boeing Special Attention Service Bulletin 737-25-1567 within the 60-month compliance time. The only new component required to modify the compartment assembly is the material for the enlarged window. Therefore, we have made no change to the final rule in this regard.

Conclusion

We have carefully reviewed the available data, including the comments received, and determined that air safety and the public interest require adopting the AD as proposed.

Costs of Compliance

There are about 1,949 airplanes of the affected design in the worldwide fleet. This AD will affect about 660 airplanes of U.S. registry. The required modification and installation actions will take about 2 work hours per airplane, at an average labor rate of $80 per work hour. Required parts will cost about $207 per airplane. Based on these figures, the estimated cost of the AD for U.S. operators is $242,220, or $367 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2008-03-20 Boeing: Amendment 39-15371. Docket No. FAA-2007-28921; Directorate Identifier 2007-NM-091-AD.

Effective Date

(a) This AD becomes effective March 17, 2008.

Affected ADs

(b) None.

Applicability

(c) This AD applies to Boeing Model 737-300, -400, and -500 series airplanes, certificated in any category; as identified in Boeing Special Attention Service Bulletin 737-25-1567, dated March 21, 2007.

Unsafe Condition

(d) This AD results from reports indicating that the forward door escape slide inflated 90 degrees out of alignment after deployment from the forward right side slide compartment. We are issuing this AD to prevent the escape slide from being unusable during an emergency evacuation and consequent injury to passengers or crewmembers.

Compliance

(e) You are responsible for having the actions required by this AD performed within the compliance times specified, unless the actions have already been done.

Modification and Installation

(f) Within 60 months after the effective date of this AD, modify the door-mounted escape system of the forward right side door slide compartment, in accordance with the Accomplishment Instructions of Boeing Special Attention Service Bulletin 737-25-1567, dated March 21, 2007.

Prior to or Concurrent Requirement

(g) Prior to or concurrently with the requirements of paragraph (f) of this AD, accomplish the requirements of AD 2004-02-08, amendment 39-13443.

Alternative Methods of Compliance (AMOCs)

(h)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Boeing Special Attention Service Bulletin 737-25-1567, dated March 21, 2007, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207 for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on January 30, 2008.
Ali Bahrami,
Manager, Transport Airplane Directorate, Aircraft Certification Service.

[FR Doc. E8-2363 Filed 2-8-08; 8:45 am]

BILLING CODE 4910-13-P